DEPARTMENT OF THE INTERIOR

Bureau of Reclamation

Notice of Request for Extension of a Currently Approved Information Collection

AGENCY: Bureau of Reclamation, Interior.

ACTION: Notice and request for comments.

SUMMARY: In accordance with the Paperwork Reduction Act of 1995, this notice announces the intentions of the Bureau of Reclamation to seek extension of the information collection for the Lower Colorado River Well Inventory. The current OMB approval expires on December 31, 2002.

DATES: Comments on this notice must be received by October 11, 2002.

FOR FURTHER INFORMATION CONTACT: To obtain copies of the information collection form and to submit comments on this information collection contact: Mr. Jeffrey Addiego, Boulder Canyon Operations Office, PO Box 61470, Boulder City, NV 89006-1470; telephone (702) 293-8525; or e-mail at JAddiego@lc.usbr.gov.

SUPPLEMENTARY INFORMATION: Comments are invited on: (a) Whether the proposed collection of information is necessary for the proper performance of the functions of Reclamation, including whether the information shall have practical utility; (b) the accuracy of Reclamation's estimated burden of the proposed collection of information; (c) ways to enhance the quality, utility, and clarity of the information to be collected; and (d) ways to minimize the burden of the collection of information on those who are to respond, including through the use of automated collection techniques or other forms of information technology. Consideration will be given to comments and suggestions submitted within 60 days of this publication.

Our practice is to make comments, including names and home addresses of respondents, available for public review. Individual respondents may request that we withhold their home address from public disclosure, which we will honor to the extent allowable by law. There also may be circumstances in which we would withhold a respondent's identity from public disclosure, as allowable by law. If you wish us to withhold your name and/or address, you must state this prominently at the beginning of your comment. We will make all submissions from organizations or businesses, and from individuals identifying themselves as representatives or officials of organizations or businesses, available for public disclosure in their entirety.

Title: Lower Colorado River Well Inventory.

OMB No. OMB No. 1006-0014.

Abstract: The Secretary of the Interior is responsible for accounting for all diversions of mainstream Colorado River water along the lower Colorado River, and for assuring that all Colorado River use is in accordance with a water use entitlement. This requires an inventory of wells along the lower Colorado River, and the gathering of specific information concerning these wells.

Description of respondents: All diversions of mainstream Colorado River water along the lower Colorado River must be accounted for and, for non-Indian diverters, in accordance with a water use contract with the Secretary of the Interior. This will affect every well owner and operator along the lower Colorado River in Arizona, California, and Nevada. Each diverter (including well pumpers) must be identified and their diversion locations and water use determined.

Frequency: These data will be collected only once for each well owner or operator as long as changes in water use, or other changes that would impact contractual or administrative requirements, are not made.

Estimated completion time: An average of 30 minutes is required for Reclamation to interview individual well owners or operators. Reclamation will use the information collected during these interviews to complete the information collection form.

Annual responses: 1,000.

Annual burden hours: 500 hours.

Dated: July 17, 2002.
Gary Palmeter,
Manager, Property and Office Services Division.

[FR Doc. 02-20298 Filed 8-9-02; 8:45 am]

BILLING CODE 4310-MN-M